DEPARTMENT OF HEALTH AND HUMAN SERVICES

Centers for Medicare & Medicaid Services

42 CFR Part 412

[CMS-1632-CN2]

RIN 0938-AS41

Medicare Program; Hospital Inpatient Prospective Payment Systems for Acute Care Hospitals and the Long-Term Care Hospital Prospective Payment System Policy Changes and Fiscal Year 2016 Rates; Revisions of Quality Reporting Requirements for Specific Providers, Including Changes Related to the Electronic Health Record Incentive Program; Extensions of the Medicare-Dependent, Small Rural Hospital Program and the Low-Volume Payment Adjustment for Hospitals; Correction

AGENCY: Centers for Medicare & Medicaid Services (CMS), HHS.

ACTION: Final rule and interim final rule with comment period; correction.

SUMMARY: This document corrects technical and typographical errors in the correcting document that appeared in the October 5, 2015 Federal Register, entitled “Medicare Program; Hospital Inpatient Prospective Payment Systems for Acute Care Hospitals and the Long Term Care Hospital Prospective Payment System Policy Changes and Fiscal Year 2016 Rates; Revisions of Quality Reporting Requirements for Specific Providers, including Changes Related to the Electronic Health Record Incentive Program; Extensions of the Medicare-Dependent, Small Rural Hospital Program and the Low-Volume Payment Adjustment for Hospitals; Correction.”

DATES: Effective date: This correcting document is effective November 25, 2015. Applicability date: This correcting document is applicable to discharges beginning October 1, 2015.

FOR FURTHER INFORMATION CONTACT: Donald Thompson, (410) 786-4487.

SUPPLEMENTARY INFORMATION:

I. Background

In FR Doc. 2015-19049 which appeared in the August 17, 2015 Federal Register (80 FR 49326), entitled “Medicare Program; Hospital Inpatient Prospective Payment Systems for Acute Care Hospitals and the Long-Term Care Hospital Prospective Payment System Policy Changes and Fiscal Year 2016 Rates; Revisions of Quality Reporting Requirements for Specific Providers, including Changes Related to the Electronic Health Record Incentive Program; Extensions of the Medicare-Dependent, Small Rural Hospital Program and the Low-Volume Payment Adjustment for Hospitals” (hereinafter referred to as the FY 2016 IPPS/LTCH PPS final rule), there were a number of technical and typographical errors. Therefore, we published a correcting document that appeared in the October 5, 2015 Federal Register (80 FR 60055) to correct those errors (hereinafter referred to as the FY 2016 IPPS/LTCH PPS correcting document). The provisions of the FY 2016 IPPS/LTCH PPS correcting document were effective as if they had been included in the FY 2016 IPPS/LTCH PPS final rule that appeared in the August 17, 2015 Federal Register. Accordingly, those corrections were effective October 1, 2015.

II. Summary of Errors and Corrections to Tables Posted on the CMS Web Site

Since publication of the FY 2016 IPPS/LTCH PPS correcting document, we discovered technical and typographic errors to data that appeared in that document. Therefore, we are correcting the errors in the following IPPS tables that are listed on page 49808 of the FY 2016 IPPS/LTCH PPS final rule, that were discussed on pages 60056 and 60057 and corrected in the FY 2016 IPPS/LTCH PPS correcting document. These tables are available on the Internet on the CMS Web site at https://www.cms.gov/Medicare/Medicare-Fee-for-Service-Payment/AcuteInpatientPPS/FY2016-IPPS-Final-Rule-Home-Page.html:

Table 2—CASE MIX INDEX AND WAGE INDEX TABLE BY CCN—FY 2016 CORRECTION NOTICE. In the FY 2016 IPPS/LTCH PPS correcting document, we inadvertently changed the reclassification status for two hospitals (CCNs 050152 and 050228). In Table 2 of the FY 2016 IPPS/LTCH PPS final rule, prior to the revisions based on the FY 2016 IPPS/LTCH PPS correcting document, the reclassification status for CCNs 050152 and 050228 correctly reflected an MGCRB reclassification to Reclassified/Redesignated CBSA 36084. For these two hospitals, the “MGCRB Reclass” column value will be corrected by adding a “Y” and the “Reclassified/Redesignated CBSA” column value will be corrected by adding “36084.”

Also, in Table 2 that was posted on the Internet in conjunction with the FY 2016 IPPS/LTCH PPS correcting document, we inadvertently listed the “County Name” and “County Code” values for CCN 050B21 as “FAIRFIELD” and “07000”, and for CCN 070B22 as “FRESNO” and “05090”. The “County Name” and “County Code” values for CCN 050B21 should be “FRESNO” and “05090”, and for CCN 070B22 should be “FAIRFIELD” and “07000.” Therefore, the “County Name” and “County Code” for CCN 050B21 will be corrected to read “FRESNO” and “05090”, respectively; and the “County Name” and “County Code” for CCN 070B22 will be corrected to read “FAIRFIELD” and “07000”, respectively.

Table 3—WAGE INDEX TABLE BY CBSA—FY 2016 CORRECTION NOTICE. As described previously, the reclassifications for two hospitals (CCNs 050152 and 050228) to CBSA 36084 were not properly listed and are being corrected in Table 2. Therefore, we are making corresponding changes to the “Reclassified Wage Index” and “Reclassified GAF” column values for CBSA 36084 in Table 3.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

We believe that this correcting document does not constitute a rule that would be subject to the APA notice and comment or delayed effective date requirements. This correcting document corrects technical and typographic errors in the tables referenced in the FY 2016 IPPS/LTCH PPS final rule as revised by the FY 2016 IPPS/LTCH PPS correcting document but does not make substantive changes to the policies or payment methodologies that were adopted in the final rule. As a result, this correcting document is intended to ensure that the tables referenced in the FY 2016 IPPS/LTCH PPS final rule accurately reflect the policies adopted in that final rule.

In addition, even if this were a rule to which the notice and comment procedures and delayed effective date requirements applied, we find that there is good cause to waive such requirements. Undertaking further notice and comment procedures to incorporate the corrections in this document into the final rule or delaying the effective date would be contrary to the public interest because it is in the public's interest for providers to receive appropriate payments in as timely a manner as possible, and to ensure that the FY 2016 IPPS/LTCH PPS final rule accurately reflects our policies. Furthermore, such procedures would be unnecessary, as we are not altering our payment methodologies or policies, but rather, we are simply implementing correctly the policies that we previously proposed, received comment on, and subsequently finalized. This correcting document is intended solely to ensure that the FY 2016 IPPS/LTCH PPS final rule accurately reflects these payment methodologies and policies. Therefore, we believe we have good cause to waive the notice and comment and effective date requirements.

Dated: November 18, 2015.
Madhura Valverde,
Executive Secretary to the Department, Department of Health and Human Services.

[FR Doc. 2015-30248 Filed 11-25-15; 8:45 am]

BILLING CODE 4120-01-P